INTERNATIONAL TRADE COMMISSION

[Investigation Nos. 731-TA-1362-1367 (Final)]

Cold-Drawn Mechanical Tubing from China, Germany, India, Italy, Korea, and Switzerland

Determinations

On the basis of the record ¹ developed in the subject investigations, the United States International Trade Commission (“Commission”) determines, pursuant to the Tariff Act of 1930 (“the Act”), that an industry in the United States is materially injured by reason of imports of cold-drawn mechanical tubing from China, Germany, India, Italy, Korea, and Switzerland, provided for in subheadings 7304.31.30, 7304.31.60, 7304.51.10, 7304.51.50, 7306.30.50, and 7306.50.50 of the Harmonized Tariff Schedule of the United States, that have been found by the Department of Commerce (“Commerce”) to be sold in the United States at less than fair value (“LTFV”).2 3

¹ The record is defined in sec. 207.2(f) of the Commission's Rules of Practice and Procedure (19 CFR 207.2(f)).

² Chairman Rhonda K. Schmidtlein did not vote in these antidumping duty investigations and Commissioner Jason E. Kearns did not participate in these investigations.

³ The Commission also finds that imports subject to Commerce's affirmative critical circumstances determinations are not likely to undermine seriously the remedial effect of the antidumping duty orders on cold-drawn mechanical tubing from China, Italy, and Korea.

Background

The Commission, pursuant to section 735(b) of the Act (19 U.S.C. 1673d(b)), instituted these investigations effective April 19, 2017, following receipt of a petition filed with the Commission and Commerce by ArcelorMittal Tubular Products, Shelby, Ohio; Michigan Seamless Tube, LLC, South Lyon, Michigan; PTC Alliance Corp., Wexford, Pennsylvania; Webco Industries, Inc., Sand Springs, Oklahoma; and Zekelman Industries, Inc., Farrell, Pennsylvania. Effective September 25, 2017, the Commission established a general schedule for the conduct of the final phase of its investigations on cold-drawn mechanical tubing, following preliminary determinations by Commerce that imports of the subject cold-drawn mechanical tubing were subsidized by the governments of China and India. Notice of the scheduling of the final phase of the Commission's investigations and of a public hearing to be held in connection therewith was given by posting copies of the notice in the Office of the Secretary, U.S. International Trade Commission, Washington, DC, and by publishing the notice in the Federal Register of October 5, 2017 (82 FR 46522). The hearing was held in Washington, DC, on December 6, 2017, and all persons who requested the opportunity were permitted to appear in person or by counsel. Following notification of final determinations by Commerce that imports of cold-drawn mechanical tubing from China, Germany, India, Italy, Korea, and Switzerland were being sold at LTFV within the meaning of section 735(b) of the Act (19 U.S.C. 1673d(a)), notice of the supplemental scheduling of the final phase of the Commission's antidumping duty investigations was given by posting copies of the notice in the Office of the Secretary, U.S. International Trade Commission, Washington, DC, and by publishing the notice in the Federal Register of April 23, 2018 (83 FR 17674).

The Commission made these determinations pursuant to section 735(b) of the Act (19 U.S.C. 1673d(b)). It completed and filed its determinations in these investigations on May 31, 2018. The views of the Commission are contained in USITC Publication 4790 (May 2018), entitled Cold-Drawn Mechanical Tubing from China, Germany, India, Italy, Korea, and Switzerland: Investigation Nos. 731-TA-1362-1367 (Final).

By order of the Commission.
Issued: May 31, 2018.
Lisa Barton,
Secretary to the Commission.

[FR Doc. 2018-12055 Filed 6-4-18; 8:45 am]

BILLING CODE 7020-02-P